DEPARTMENT OF HEALTH AND HUMAN SERVICES

Centers for Disease Control and Prevention

[30Day-11-11AD]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Surveys of State, Tribal, Local, and Territorial (STLT) Governmental Health Agencies—New—Office of the Director, Office for State, Tribal Local and Territorial Support (OSTLTS), Centers for Disease Control and Prevention CDC).

Background and Brief Description

CDC's mission includes addressing the leading causes of disease, injury, and disability in the United States, including a focus on tobacco control; improving nutrition, physical activity, and food safety; reducing healthcare-associated infections; preventing motor vehicle injuries; preventing teen pregnancy; and preventing HIV. CDC's priorities for approaching improvements to public health include—strengthening surveillance, epidemiology, and laboratory science; better supporting efforts in states and communities; and pursuing policies that have an impact. As such, CDC's relationship with state, local, tribal and territorial (STLT) governmental health officials is key to its emergency preparedness, health promotion and disease prevention responsibilities.

CDC is requesting a three-year approval for a generic clearance to assess information related to a myriad of public health issues that affect STLT health agencies. Information will be used to assess situational awareness of current public health emergencies, make decisions that will affect planning, response and recovery activities of subsequent emergencies, and fill gaps in knowledge that will strengthen surveillance, epidemiology, and laboratory science; better supporting efforts in states and communities. CDC will conduct short surveys, across a range of public health topics, using standard questionnaire administration approaches (e.g., phone, Web, e-mail, and paper, in person).

The burden is calculated based on the assumption of querying at most 100% of all available State, territorial (60) and county (3000) health officials/employees and a representative sample of at most 100 municipal/city employees. CDC estimates that it will conduct up to 48 queries with State, territorial or tribal health officials/employees, 6 queries with county health employees, and 6 queries with municipal health employees each year. The total annualized burden hour estimate is 40,080. There are no costs to respondents other than their time.

Total Estimated Annualized Burden Hours
Type of respondent | No. of respondents | No. of responses per respondent | Average Burden per response (in Hours)
State, Territorial, Tribal Health Officials/Employees | 60 | 48 | 1
County Health Employees | 3000 | 6 | 2
Municipal/City Health Employees | 100 | 6 | 2
Total |  |  |

Dated: January 6, 2011.
Carol E. Walker,
Acting Reports Clearance Officer, Centers for Disease Control and Prevention.

[FR Doc. 2011-460 Filed 1-11-11; 8:45 am]

BILLING CODE 4163-18-P